INTERNATIONAL TRADE COMMISSION

Issuance of Revised Users' Manual for Commission Mediation Program for Investigations Under Section 337 of the Tariff Act of 1930

AGENCY: U.S. International Trade Commission.

ACTION: Notice.

SUMMARY: Notice is hereby given that the Commission has issued a revised Users' Manual for its program for the mediation of investigations under section 337 of the Tariff Act of 1930.

FOR FURTHER INFORMATION CONTACT: James Worth, Office of the General Counsel, U.S. International Trade Commission, 500 E Street, SW., Washington, DC 20436, telephone (202) 205-3065. General information concerning the Commission may also be obtained by accessing its Internet server at http://www.usitc.gov. Hearing-impaired persons are advised that information on this matter can be obtained by contacting the Commission's TDD terminal on (202) 205-1810.

SUPPLEMENTARY INFORMATION: On November 8, 2008, the Commission published notice that it had approved the initiation of a voluntary pilot mediation program for investigations under section 337 of the Tariff Act of 1930, as amended, 19 U.S.C. 1337 (“section 337”). 73 FR 65615 (Nov. 8, 2008).

The Commission has determined to issue a revised Users' Manual for its program for the mediation of investigations under section 337 of the Tariff Act of 1930. The revised Users' Manual reaffirms the authority of administrative law judges and the Commission under the Administrative Procedure Act to require attendance at a settlement conference, including the use of alternative dispute resolution; reaffirms the confidential nature of mediation proceedings; provides that parties will receive materials regarding the program upon the filing of a complaint and certify receipt and reading/discussion thereof; and provides that the Commission will maintain an open list of private mediators in addition to the roster of pre-screened pro-bono mediators.

The authority for the Commission's determination is contained in the Administrative Procedure Act, as amended, see 5 U.S.C. 556(c)(6)-(8), 572-74, 583, and in sections 335 and 337 of the Tariff Act of 1930, as amended, 19 U.S.C. 1335, 1337.

Issued: August 25, 2010.
By order of the Commission.
Marilyn R. Abbott,
Secretary to the Commission.

[FR Doc. 2010-21530 Filed 8-27-10; 8:45 am]

BILLING CODE 7020-02-P